DEPARTMENT OF ENERGY

Federal Energy Regulatory Commission

[Project No. 2100-134 California]

California Department of Water Resources; Notice of Availability of the Draft Environmental Impact Statement for the Oroville Facilities and Intention to Hold Public Meetings

September 29, 2006.

In accordance with the National Environmental Policy Act of 1969 and the Federal Energy Regulatory Commission's (Commission) regulations, 18 CFR part 380 (Order No. 486, 52 FR 47897), the Office of Energy Projects has reviewed the application for license for the Oroville Facilities (FERC No. 2100), located on the Feather River in the foothills of the Sierra Nevada in Butte County, California, and has prepared a Draft Environmental Impact Statement (draft EIS) for the project. The existing project occupies 2,000 acres of federal lands managed by the U.S. Department of Agriculture, Forest Service within the Plumas and Lassen National Forests and 3,900 acres managed by the U.S. Bureau of Land Management.

The draft EIS contains staff evaluations of the applicant's proposal and alternatives for relicensing the Oroville Facilities. The draft EIS documents the views of governmental agencies, non-governmental organizations, affected Indian tribes, the public, the license applicant, and Commission staff.

Comments on the draft EIS should be filed with Magalie R. Salas, Secretary, Federal Energy Regulatory Commission, 888 First Street, NE., Washington, DC 20426. All comments must be filed by November 28, 2006, and should reference Project No. 2100-134. Comments may be filed electronically via the Internet in lieu of paper. The Commission strongly encourages electronic filings. See 18 CFR 385.2001(a)(1)(iii) and instructions on the Commission's Web site at http://www.ferc.gov under the eLibrary link.

In addition to or in lieu of sending written comments, you are invited to attend one or more public meetings that will be held to receive comments on the draft EIS. Meeting dates, times, and locations will be provided in a subsequent Notice.

At these meetings, resource agency personnel and other interested persons will have the opportunity to provide oral and written comments and recommendations regarding the draft EIS. The meeting will be recorded by a court reporter, and all statements (verbal and written) will become part of the Commission's public record for the project. Meeting information will be posted on the Commission's calendar located at http://www.ferc.gov/EventCalendar/EventsList.aspx along with other related information.

The Commission will consider comments it receives as it prepares the final EIS for this project. The final EIS will be part of the record from which the Commission will make its decision.

Copies of the draft EIS are available for review in the Commission's Public Reference Branch, Room 2A, located at 888 First Street, NE., Washington, DC 20426. The draft EIS also may be viewed on the Internet at www.ferc.gov under the eLibrary link. Enter the docket number (P-2100) to access the document. For assistance, contact FERC Online Support at FERCOnlineSupport@ferc.gov or toll-free at 1-866-208-3676, or for TTY, (202) 502-8659.

CD versions of the draft EIS have been mailed to everyone on the mailing list for the project. Copies of the CD, as well as a limited number of paper copies, are available from the Public Reference Room identified above.

You may also register online at http://www.ferc.gov/docs-filing/esubscription.asp to be notified via e-mail of new filings and issuances related to this or other pending projects. For assistance, contact FERC Online Support.

Anyone may intervene in this proceeding based on this draft EIS (18 CFR 380.10). You must file your request to intervene as specified above.¹ You do not need intervenor status to have your comments considered.

For further information, contact James Fargo at (202) 502-6095 or at james.fargo@ferc.gov.

Magalie R. Salas,
Secretary.

¹ Interventions may also be filed electronically via the Internet in lieu of paper. See the previous discussion on filing comments electronically.

[FR Doc. E6-16534 Filed 10-5-06; 8:45 am]

BILLING CODE 6717-01-P